DEPARTMENT OF AGRICULTURE

Office of the Secretary

Notice of Request for Renewal of a Currently Approved Information Collection; Correction

AGENCY: Office of the Assistant Secretary for Civil Rights.

ACTION: Notice; correction.

SUMMARY: The Department of Agriculture published a notice in the Federal Register on November 25, 2020 (OMB Control Number: 0508-0002), concerning request for comments on the renewal of a currently approved information collection. The notice contained an incorrect date.

FOR FURTHER INFORMATION CONTACT: Denise A. Banks, 202-260-3978

Correction

In the Federal Register of November 25, 2020, in FR Volume 85, No. 228, on page 75283, in the second column, correct the “Expiration Date of Approval:” to February 28, 2021.

Dated: December 15, 2020.
Devon Westhill,
Deputy Assistant Secretary for Civil Rights.

[FR Doc. 2020-28799 Filed 12-29-20; 8:45 am]

BILLING CODE 3410-18-P